ENVIRONMENTAL PROTECTION AGENCY

[FRL-7237-3]

Gulf of Mexico Program Meeting of the Policy Review Board

AGENCY: Environmental Protection Agency (EPA).

ACTION: Notice of meeting.

SUMMARY: Under the Federal Advisory Act, Public Law 92-463, EPA gives notice of a meeting of the Gulf of Mexico Program (GMP) Policy Review Board (PRB).

DATES: The PRB meeting will be held on Thursday, July 18, 2002, from 8 a.m. to 2:30 p.m.

ADDRESSES: The meeting will be held at the Embassy Suites Hotel, 315 Julia Street, New Orleans, Louisiana (504-525-1993).

FOR FURTHER INFORMATION CONTACT: Gloria D. Car, Designated Federal Officer , Gulf of Mexico Program Office, Mail Code EPA/GMPO, Stennis Space Center, MS, 39529-6000 at 228-688-2421.

SUPPLEMENTARY INFORMATION: Proposed agenda is attached.

The meeting is open to the public.

Dated: June 17, 2002.
Gloria D. Car,
Designated Federal Officer.

Gulf of Mexico Program—Policy Review Board Meeting, July 18, 2002, Embassy Suites Hotel, New Orleans, Louisiana

Purposes:

(1) To discuss the feasibility of developing recommendations requesting that the Administrator of EPA support a Presidential Executive Order establishing the Gulf of Mexico Program (GMP);

(2) To discuss and endorse actions proposed by the Management Committee to address mercury in Gulf fisheries;

(3) To discuss the role of the GMP in assisting Louisiana and the Army Corps of Engineers address coastal land loss and implement the Louisiana Coastal Assessment;

(4) To discuss the 2002 Farm Bill and opportunities for leveraging resources to support GMP objectives;

(5) To endorse Research Needs Assessment for the GMP; and

(6) To receive an update on Program progress and endorse out-year objectives.

Thursday, July 18

8:00 Welcome and Introductions, Jimmy Palmer, EPA Regional Administrator—Atlanta

8:15 EPA's Goals and Expectations for the Gulf of Mexico Program

Diane Regas, EPA Deputy Assistant Administrator for Water (Invited)

Jimmy Palmer, EPA Regional Administrator—Atlanta

Gregg Cooke, EPA Regional Administrator—Dallas

Purpose: Discuss EPA's expectations for the Program and transition to a new Director for the Gulf of Mexico Program Office.

9:00 GMP Environmental Objectives, Progress to Date, Performance Review, Bryon Griffith, GMPO

Purpose: Review fiscal year 2004 objectives; progress on FY 2002 objectives; provide brief overview of recommendations and changes resulting from the Management Committee's review of GMP performance; and discuss formation of independent Gulf of Mexico Regional Panel for aquatic nuisance species.

9:30 Presidential Executive Order for the Gulf of Mexico Program, Jim Giattina, GMPO

Purpose: Review the purpose and key elements of an Executive Order (EO) for the Program and discuss support for an EO and how it would reinforce efforts to engage the support and commitment of Federal agencies.

Decision: PRB discussion and agreement on next steps, regarding development of recommendations to the Administrator.

10:30 Break

10:45 Mercury in Gulf Seafood

Ron Lukens, Gulf States Marine Fisheries Commission

Fred Kopfler, GMPO

Spencer Garrett, National Marine Fisheries Service

Purpose: Identify key policy issues that will require the attention of the PRF as well as Important Federal and State actions that could result from the efforts underway to address public health concerns associated with mercury in Gulf seafood.

Decision: Endorsement of the GMP's course of action.

11:45 Break for Lunch

Lunch to be catered in

12:30 Louisiana Coastal Land Loss and Gulf Hypoxia, Len Bahr, Executive, Office of the Governor of Louisiana

Purpose: Presentation on the State's and the Army Corps of Engineers efforts to address coastal land loss through the Louisiana Coastal Assessment and linkages with efforts to address Gulf hypoxia.

Decision: Discussion of the appropriate role and activities for the GMP to undertake to support State efforts.

1:30 The 2002 Farm Bill, Ron Harrell, Louisiana Farm Bureau Federation

Purpose: Discussion of key provisions of the 2002 Farm Bill and how they may be leveraged to support GMP objectives.

2:00 Scientific Research Needs Assessment for the GMP, Jim Giattina

Purpose: Brief overview of Critical Scientific Research Needs Assessment for the Gulf of Mexico Program.

Decision: PRB endorsement of final document for printing and distribution.

2:15 Review Action Items, Bryon Griffith

2:30 Adjourn

[FR Doc. 02-16032 Filed 6-24-02; 8:45 am]

BILLING CODE 6560-50-M